DEPARTMENT OF AGRICULTURE

Forest Service

Wrangell-Petersburg Resource Advisory Committee

AGENCY: Forest Service, USDA.

ACTION: Notice of meeting.

SUMMARY: The Wrangell-Petersburg Resource Advisory Committee (RAC) has changed its January meeting from a teleconference to a regular meeting. This meeting will now be held January 20 and 21, 2006 in Wrangell, Alaska. The purpose of the meeting is to review project funding proposals pursuant to Title II, Public Law 106-393, H.R. 2389, the Secure Rural Schools ad Community Self-Determination Act of 2000, also called the “Payments to States” Act. The RAC may make funding recommendations at this meeting. Opportunities for public comment on the proposals will be provided at the meeting.

DATES: The meeting will be held Friday, January 20, 2006, from 8 a.m. until 5:15 p.m. (or the conclusion of public testimony), and on Saturday, January 21, 2006, from 8 a.m. until 9:30 a.m.

ADDRESSES: The meeting will be held at the James and Elsie Nolan Center, 1096 Outer Drive, Wrangell, Alaska.

FOR FURTHER INFORMATION CONTACT: Patty Grantham, Petersburg District Ranger, P.O. Box 1328, Petersburg, AK 99833, phone (907) 722-3871, e-mail pagrantham@fs.fed.us, or Mark Hummell, Wrangell District Ranger, P.O. Box 51, Wrangell, AK 99833, phone (907) 874-2323, e-mail mhummel@fs.fed.us. Toll-free conference calling is available for the meeting; please call or e-mail for specific information. For further information on RAC history, operations, and the application process, a Web site is available at www.fs.fed.us/payments. Once in the Web site, follow the links to the Wrangell-Petersburg Resource Advisory Committee.

SUPPLEMENTARY INFORMATION: This meeting will focus on the review and discussion of proposals received by the RAC for funding under Title II of the Payments to States legislation (Pub. L. 106-393). New proposals (initial reading) may be discussed. The committee may make recommendations for project funding at the meeting. A field trip to review proposals proximate to the Wrangell, Alaska area may take place. The meeting is open to the public. Public input opportunity will be provided and individuals will have the opportunity to address the committee at that time.

Dated: December 16, 2005.
Forest Cole,
Forest Supervisor.

[FR Doc. 05-24398 Filed 12-22-05; 8:45 am]

BILLING CODE 3410-11-M